DEPARTMENT OF DEFENSE

Office of the Secretary

[Docket ID: DoD-2023-OS-0108; Req No. OS-2024-00036-FR]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to ODASD(MC&FP), Mr. Trevor Dean, 1500 Defense Pentagon, Washington, DC 20301, (703) 571-2359.

SUPPLEMENTARY INFORMATION:

Title; Associated Form; and OMB Number: DoD Mortuary Affairs Forms; DD Form(s) 0565, 3045, 3046, 3047, 3048, 3049, 3050, 3116, 3122; OMB Control Number: 0704-0581.

Needs and Uses: The information collection requirement is necessary to obtain and document information related to deceased personnel and their family members. The information collection documents selections made by family members and others as part of the required mortuary case file. As stated in 10 United States Code (U.S.C.) 1481, “Recovery, Care, and Disposition of Remains: Decedents Covered,” the DoD may provide for the recovery, care, and disposition of the remains for active-duty Regulars, Reserve Component members, applicants, trainees, military prisoners, and others. The DoD is further authorized, per 10 U.S.C. 1482 and 10 U.S.C. 1482a to provide reimbursement, cover expenses, or otherwise provide mortuary services for decedents, including civilian employees serving with the armed forces. Mortuary affairs personnel must document information on the information collections to ensure proper care, transportation, escort, honors and disposition of remains, as applicable. Depending on the circumstances, a Person Authorized to Direct Disposition (PADD) or Person Authorized to Effect Disposition may be asked to complete up to six forms. All PADDs will complete the DD Form 3045, but may additionally be asked to provide information on the DD Forms 3046, 3047, 3048, 3049, and/or 3050.

The DD Form 565 is a form to assist mortuary personnel with the identification of the remains of deceased personnel, family members, civilians, or other personnel that may be in the care of the DoD. Identification of deceased persons is a critical step in providing proper disposition of the remains. Information collected includes information on the respondent and a witness.

The DD Form 3116 is a report filed with Service casualty and mortuary affairs offices with information regarding the transportation of human remains of deceased active duty personnel to their place of interment. The escort also reports on the condition of remains, casket and any incident during transportation to assist the Service Casualty and Mortuary Affairs Operations Division (CMAOD) in their support of the person authorized to direct disposition of the remains. The report also informs the Service CMAOD of any issue needed to be resolved with the receiving funeral home.

The DD Form 3122 is an official request for military funeral honors at the funeral or memorial of an eligible deceased veteran. A request for military funeral honors for an eligible veteran must be supported by law. The form will be sent to military funeral honors coordinators for their review, analysis for eligibility, scheduling, and to capture costs to provide the required military funeral honors elements. The form contains contact information for the next-of-kin requesting military funeral honors.

Affected Public: Individuals or households.

DD Form 0565

Annual Burden Hours: 62.5 hours.

Number of Respondents: 250.

Responses per Respondent: 1.

Annual Responses: 250.

Average Burden per Response: 15 minutes.

DD Form 3116

Annual Burden Hours: 450 hours.

Number of Respondents: 900.

Responses per Respondent: 1.

Annual Responses: 900.

Average Burden per Response: 30 minutes.

DD Form 3122

Annual Burden Hours: 125,000.

Number of Respondents: 250,000.

Responses per Respondent: 1.

Annual Responses: 250,000.

Average Burden per Response: 30 minutes.

DD Form 3045

Annual Burden Hours: 225 hours.

Number of Respondents: 900.

Responses per Respondent: 1.

Annual Responses: 1.

Average Burden per Response: 15 minutes.

DD Form 3046

Annual Burden Hours: 15 hours.

Number of Respondents: 60.

Responses per Respondent: 1.

Annual Responses: 1.

Average Burden per Response: 15 minutes.

DD Form 3047

Annual Burden Hours: 15 hours.

Number of Respondents: 60.

Responses per Respondent: 1.

Annual Responses: 60.

Average Burden per Response: 15 minutes.

DD Form 3048

Annual Burden Hours: 15 hours.

Number of Respondents: 60.

Responses per Respondent: 1.

Annual Responses: 60.

Average Burden per Response: 15 minutes.

DD Form 3049

Annual Burden Hours: 15 hours.

Number of Respondents: 60.

Responses per Respondent: 1.

Annual Responses: 60.

Average Burden per Response: 15 minutes.

DD Form 3050

Annual Burden Hours: 15 hours.

Number of Respondents: 60.

Responses per Respondent: 1.

Annual Responses: 60.

Average Burden per Response: 15 minutes.

Total

Annual Burden Hours: 25,812.5.

Number of Respondents: 252,350.

Responses per Respondent: 1.

Annual Responses: 252,350.

Average Burden per Response: 2.75 hours.

Frequency: On occasion.

Dated: November 7, 2023.
Aaron T. Siegel,
Alternate OSD Federal Register Liaison Officer, Department of Defense.

[FR Doc. 2023-25117 Filed 11-14-23; 8:45 am]

BILLING CODE 6001-FR-P